DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Rural Health Care Services Outreach Supplement Performance Measures.

OMB No. 0915-xxxx—NEW

Abstract: The fiscal year (FY) 2013 supplemental funding to the Rural Health Care Services Outreach Program grantees is a one-time supplemental funding under Section 330A(e) of the Public Health Service (PHS) Act (42 U.S.C. 254c(e)) to promote rural health care services outreach by expanding the delivery of health care services to include new and enhanced services in rural areas. The supplemental funding will specifically focus on supporting the current scope of their project, allowing grantees to further enhance outreach and enrollment assistance activities in their communities. This supplemental funding will support the Affordable Care Act's (ACA) outreach and enrollment activities to the Health Insurance Marketplaces. Grantees will be able to raise awareness of affordable insurance options and provide assistance and information to the uninsured about enrolling in available sources of insurance, such as Medicare, Medicaid, the Children's Health Insurance Program (CHIP), and private insurance in the Marketplace through this supplemental funding.

The overarching goal is to increase the number of eligible individuals educated about their coverage options and enrollees to the Health Insurance Marketplaces or other available sources of insurance, such as Medicare, Medicaid, and the Children's Health Insurance Program as a result of this supplemental funding.

Need and Proposed Use of the Information: For this program, performance measures were drafted to provide data to the program and to enable HRSA to provide aggregate program data. These measures cover the principal topic areas of interest to the Office of Rural Health Policy, including: (a) Organizational information; (b) outreach and enrollment personnel; (c) outreach and education; (d) enrollment; and (e) additional resources. Several measures will be used for this program.

Likely Respondents: The respondents would be recipients of the Rural Health Care Services Outreach supplemental funding award.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
Rural Health Care Services Outreach Supplement Performance Measures | 52 | 1 | 52 | 1.5 | 78
Total | 52 | 1 | 52 | 1.5 | 78

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Dated: February 10, 2014.
Jackie Painter,
Deputy Director, Division of Policy and Information Coordination.

[FR Doc. 2014-03442 Filed 2-14-14; 8:45 am]

BILLING CODE 4165-15-P